DEPARTMENT OF VETERANS AFFAIRS

Advisory Committee: National Academic Affiliations Council, Notice of Meeting Cancellation

The Department of Veterans Affairs gives notice under the Federal Advisory Committee Act, 5 U.S.C. App. 2, that a meeting of the National Academic Affiliations Council, previously scheduled to be held at the 810 Vermont Avenue NW, VA Conference Room 230, 2nd Floor, Washington, DC 20420 on March 11-March 12, 2020, has been cancelled. Topics for the March meeting agenda will be rescheduled for a future meeting.

Dated: March 10, 2020.
Jelessa M. Burney,
Federal Advisory Committee Management Officer.

[FR Doc. 2020-05270 Filed 3-13-20; 8:45 am]

BILLING CODE P